DEPARTMENT OF ENERGY

Federal Energy Regulatory Commission

[Docket No. QF84-443-004]

O.L.S. Energy-Chino; Notice of Amendment To Application for Commission Recertification of Qualifying Status of a Cogeneration Facility

July 19, 2000.

Take notice that on July 13, 2000, O.L.S. Energy-Chino, c/o Delta Power Company, LLC, 89 Headquarters Plaza, North Tower, 14th Floor, Morristown, NJ 07960 filed with the Federal Energy Regulatory Commission revised pages to its application for recertification of a facility as a qualifying cogeneration facility pursuant to § 292.207(b) of the Commission's regulations, as well as an ownership chart.

The Facility is a topping cycle cogeneration facility consisting of one GE Model LM2500 gas turbine in combined cycle configuration. The Facility is interconnected with, sells power to and receives backup and maintenance power from Southern California Edison Company. Recertification of the Facility is being requested by Applicant to reflect recent changes in the ownership structure of the Facility.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before August 14, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222) for assistance).

David P. Boergers,
Secretary.

[FR Doc. 00-18969 Filed 7-26-00; 8:45 am]

BILLING CODE 6717-01-M